DEPARTMENT OF THE INTERIOR

National Park Service

[NPS-NERO-GATE-18926; PPNEGATEB0, PPMVSCS1Z.Y00000]

Amended Meeting Schedule for the Gateway National Recreation Area Fort Hancock 21st Century Advisory Committee

AGENCY: National Park Service, Interior.

ACTION: Amended notice of meetings.

SUMMARY: In accordance with the Federal Advisory Committee Act (5 U.S.C. Appendix 1-16), notice is hereby given of a change in the meeting schedule of the Gateway National Recreation Area Fort Hancock 21st Century Federal Advisory Committee September 11, 2015, meeting to September 18, 2015, at the Monmouth County Library, Eastern Branch, located at 1001 Route 35, Shrewsbury, New Jersey 07702 which was published in the Federal Register, Vol. 80, April 2, 2015, p. 17475.

The September 18, 2015, meeting will begin at 9:00 a.m. (EASTERN), with a public comment period at 11:30 a.m. (EASTERN). This meeting is open to the public. The October 23, 2015, meeting announced in the same notice, is cancelled.

FOR FURTHER INFORMATION CONTACT: John Warren, External Affairs Officer, Gateway National Recreation Area, Sandy Hook Unit, 26 Hudson Road, Highlands, New Jersey 07732, 917-829-0425, email John_Warren@nps.gov.

SUPPLEMENTARY INFORMATION: The Committee was established (Federal Register, Vol. 77, April 3, 2012, p. 20046) to provide advice to the Secretary of the Interior, through the Director of the National Park Service, on the development of a reuse plan and on matters relating to future uses of certain buildings at the Fort Hancock and Sandy Hook Proving Ground National Historic Landmark which lie within the Gateway National Recreation Area.

The new Committee Web site, http://www.forthancock21.org, includes summaries from all prior meetings. All Committee meetings are open to the public.

Dated: August 12, 2015.
Alma Ripps,
Chief, Office of Policy.

[FR Doc. 2015-20441 Filed 8-18-15; 8:45 am]

BILLING CODE 4310-EE-P